NUCLEAR REGULATORY COMMISSION

[Docket No. 50-289]

AmerGen Energy Company, LLC; AmerGen Energy Company, LLC, Three Mile Island Nuclear Station, Unit 1; Notice of Availability of the Draft Supplement 37 to the Generic Environmental Impact Statement for License Renewal of Nuclear Plants, and Public Meeting for the License Renewal of Three Mile Island Nuclear Station, Unit 1

AGENCY: Nuclear Regulatory Commission.

ACTION: Notice of Availability; Correction.

SUMMARY: This document corrects a notice appearing in the Federal Register on December 9, 2008 (73 FR 74766), that announces a public meeting for the license renewal of Three Mile Island Nuclear Station, Unit 1. This action is necessary to update the location where the meeting will take place.

FOR FURTHER INFORMATION CONTACT: Ms. Sarah Lopas, Environmental Project Manager, Office of Nuclear Reactor Regulation, telephone (301) 415-1147, e-mail: sarah.lopas@nrc.gov.

SUPPLEMENTARY INFORMATION: On page 74766, in the third column, fifteenth line, the meeting location is corrected to read from “The Elks Theatre, 4 West Emaus Street, Middletown, PA 17057” to “The Sheraton Harrisburg Hershey Hotel, 4650 Lindle Road, Harrisburg, PA 17111.”

Dated at Rockville, Maryland, this 29 day of December 2008.
For the Nuclear Regulatory Commission.
David L. Pelton,
Chief, Reactor Projects Branch 1, Division of License Renewal, Office of Nuclear Reactor Regulation.

[FR Doc. E8-31422 Filed 1-5-09; 8:45 am]

BILLING CODE 7590-01-P